DEPARTMENT OF COMMERCE

National Oceanic and Atmospheric Administration

RIN 0648-XC695

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council (Council) and its Research Set-Aside Committee, its Mackerel, Squid, Butterfish Committee, its Surfclam and Ocean Quahog Committee, and its Executive Committee will hold public meetings.

DATES: The meetings will be held Tuesday, June 11, 2013 through Thursday, June 13, 2013. See SUPPLEMENTARY INFORMATION for specific dates and times.

ADDRESSES: The meetings will be held at the Double Tree Hilton Tinton Falls-Eatontown, 700 Hope Road, Eatontown, NJ 07724; telephone: (732) 544-9300.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Tuesday, June 11, 2013

8 a.m. until 11 a.m.—The Mackerel, Squid, Butterfish (MSB) Committee will meet.

11 a.m. until 3 p.m.—The Surfclam and Ocean Quahog (SC/OQ) Committee will meet.

3 p.m.—The Council will convene.

3 p.m. until 5 p.m.—The Council Strategic Plan will be discussed.

5 p.m. until 6 p.m.—The Listening Session will be held.

Wednesday, June 12, 2013

9 a.m.—The Council will convene.

9 a.m. until 11 a.m.—The Omnibus Recreational Amendment will be discussed.

11 a.m. until 12 p.m.—There will be an Update on Atlantic Sturgeon Biological Opinion.

1 p.m. until 3 p.m.—The Council will discuss MSB Committee actions and approve annual specifications and related management measures.

3 p.m. until 5 p.m.—The Council will discuss SC/OQ Committee actions and approve the Data Collection Protocol document by the FMAT.

Thursday, June 13, 2013

9 a.m. until 10 a.m.—The Executive Committee will meet.

10 a.m. until 2 p.m.—The Council will hold its regular Business Session to approve the December 2012 and April 2013 minutes, receive Organizational Reports, the New England and South Atlantic Liaison Reports, the Executive Director's Report, the Science Report; Committee Reports, and conduct any continuing and/or new business.

Agenda items by day for the Council's Committees and the Council itself are:

On Tuesday, June 11—The MSB Committee will review and develop recommendations for annual MSB specifications and related management measures, including but limited to: Butterfish Allowable Biological Catch for 2014, river herring/shad cap for the mackerel fishery, gear stowage requirements, longfin roll-over and reserve options, longfin mesh requirements, and Longfin possession limits for the Illex fishery; Illex control date, Amendment 15 update, and the squid port meeting results. The SC/OQ Committee will review and develop recommendations for the 2014-2016 specifications and review and advise on the Data Collection Protocol document prepared by the Fishery Management Action Team. The Council will review and approve the Draft Strategic Plan. During the Listening Session John Bullard will give a review of the NMFS Listening Sessions.

On Wednesday, June 12—The Council will review and approve the Omnibus Recreational Amendment for submission to NMFS. NERO will provide an Update on Atlantic Sturgeon Biological Opinion. The Council will review MSB Committee actions, approve annual specifications and related management measures (see above list for MSB Committee), approve Illex control date, and receive an Amendment 15 update. The Council will review SC/OQ Committee actions, approve 2014-16 specifications for surfclams and ocean quahogs and approve the Data Collection Protocol document prepared by the FMAT.

On Thursday, June 13—The Executive Committee will receive an update on the Ecosystem Approach to Fisheries Management document and discuss wind energy, Bureau of Ocean Energy Management, and the next steps. The Council will hold its regular Business Session to approve the December 2012 and April 2013 minutes, receive Organizational Reports, the New England and South Atlantic Liaison Report, the Executive Director's Report, Science Report, Committee Reports, and conduct any continuing and/or new business.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: May 20, 2013.
Tracey L. Thompson,
Acting Deputy Director, Office of Sustainable Fisheries, National Marine Fisheries Service.

[FR Doc. 2013-12323 Filed 5-22-13; 8:45 am]

BILLING CODE 3510-22-P